DEPARTMENT OF THE TREASURY

Submission for OMB Review; Comment Request

May 23, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 27, 2005 to be assured of consideration.

Departmental Offices

OMB Number: 1505-0186.

Form Numbers: None.

Type of Review: Extension.

Title: Customer Satisfaction Measure of Government Web sites.

Description: The objectives of surveying citizen users of federal agency websites are to: (1) Provide information for improving the quality of and satisfaction with agency websites; (2) ensure continuous assessment and improvement capabilities; (3) benchmark results against other agencies and private companies; (4) determine how different types of changes to the websites will impact future citizen behaviors; and (5) make the agencies part of a quarterly E-Government customer satisfaction benchmark and annual index for all measured Federal Government activities.

Respondents: Individuals or households, Business and other for-profit, Not-for-profit institutions, Farms, Federal Government, State, Local, or Tribal Government.

Estimated Number of Respondents/Recordkeepers: 1,000,000.

Estimated Burden Hours Per Respondent/Recordkeeper: Various.

Frequency of Response: Quarterly.

Estimated Total Reporting/Recordkeeping Burden: 41,667 hours.

Clearance Officer: Lois K. Holland (202) 622-1563, Departmental Offices, Room 11000, 1750 Pennsylvania Avenue, NW., Washington, DC 20220.

OMB Reviewer: Alexander T. Hunt (202) 395-7316, Office of Management and Budget, Room 10235, New Executive Office Building, Washington, DC 20503.

Lois K. Holland,
Treasury PRA Clearance Officer.

[FR Doc. 05-10637 Filed 5-26-05; 8:45 am]

BILLING CODE 4811-16-P